FEDERAL COMMUNICATIONS COMMISSION

47 CFR Part 73

[DA 01-2592, MM Docket No. 01-85, RM-9039]

Television Broadcast Service; Boise, ID

AGENCY: Federal Communications Commission.

ACTION: Final rule.

SUMMARY: The Commission, at the request of KM Communications, Inc., an applicant for a construction permit for a new television station at Boise, Idaho, substitutes channel 39 for channel 14 at Boise. See 66 FR 20127, April 19, 2001. TV channel 39 can be allotted to Boise, Idaho, with a zero offset in compliance with the principle community coverage requirements of Sections 73.610 and 73.698 of the Commission's Rules and with the criteria set forth in the Commission's Public Notice released on November 22, 1999, DA 99-2605. The coordinates for channel 39 at Boise are North Latitude 43-45-18 and West Longitude 116-05-52. With is action, this proceeding is terminated.

DATES: Effective December 31, 2001.

FOR FURTHER INFORMATION CONTACT: Pam Blumenthal, Mass Media Bureau, (202) 418-1600.

SUPPLEMENTARY INFORMATION: This is a synopsis of the Commission's Report and Order, MM Docket No. 01-85, adopted November 6, 2001, and released November 14, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television broadcasting.

Part 73 of Title 47 of the Code of Federal Regulations is amended as follows:

PART 73—[AMENDED]

1. The authority citation for Part 73 continues to read as follows:

Authority: 47 U.S.C. 154, 303, 334, 336.

§ 73.606 [Amended]

2. Section 73.606(b), the Table of Television Allotments under Idaho, is amended by removing TV channel 14 and adding TV channel 39 at Boise.

Federal Communications Commission.
Barbara A. Kreisman,
Chief, Video Services Division, Mass Media Bureau.

[FR Doc. 01-28882 Filed 11-18-01; 8:45 am]

BILLING CODE 6712-01-P